DEPARTMENT OF ENERGY

Federal Energy Regulatory Commission

Combined Notice of Filings #1

Take notice that the Commission received the following exempt wholesale generator filings:

Docket Numbers: EG20-61-000.

Applicants: Wilderness Line Holdings, LLC.

Description: Self-Certification of Exempt Wholesale Generator Status of Wilderness Line Holdings, LLC.

Filed Date: 1/2/20.

Accession Number: 20200102-5268.

Comments Due: 5 p.m. ET 1/23/20.

Take notice that the Commission received the following electric rate filings:

Docket Numbers: ER11-2447-004.

Applicants: Pacific Northwest Generating Cooperative.

Description: Updated Market Power Analysis [Confidential and Confidential Workpapers] of Pacific Northwest Generating Cooperative.

Filed Date: 12/31/19.

Accession Number: 20191231-5329.

Comments Due: 5 p.m. ET 3/2/20.

Docket Numbers: ER14-225-007.

Applicants: New Brunswick Energy Marketing Corporation.

Description: Updated Market Power Analysis for the Northeast Region of New Brunswick Energy Marketing Corporation.

Filed Date: 12/30/19.

Accession Number: 20191230-5282.

Comments Due: 5 p.m. ET 2/28/20.

Docket Numbers: ER17-1519-003.

Applicants: PECO Energy Company, PJM Interconnection, L.L.C.

Description: Compliance filing: PECO submits filing in compliance with the Commission's 12/5/2019 Order to be effective 12/5/2019.

Filed Date: 1/2/20.

Accession Number: 20200102-5136.

Comments Due: 5 p.m. ET 1/23/20.

Docket Numbers: ER18-169-004.

Applicants: Southern California Edison Company.

Description: Compliance filing: SCE Revised TO Apdx IX Attach 1 Formula Rate Protocols ER18-169, ER18-2440 to be effective 11/16/2018.

Filed Date: 1/2/20.

Accession Number: 20200102-5290.

Comments Due: 5 p.m. ET 1/23/20.

Docket Numbers: ER19-1910-002.

Applicants: Southwest Power Pool, Inc.

Description: Compliance filing: Compliance Filing—Oklahoma Gas and Electric Company Settlement in EL18-58-000 to be effective 1/1/2018.

Filed Date: 1/2/20.

Accession Number: 20200102-5256.

Comments Due: 5 p.m. ET 1/23/20.

Docket Numbers: ER19-2774-002.

Applicants: Public Service Company of Colorado.

Description: Compliance filing: OATT-Att-N-LGIP Reform-Compliance to be effective 12/5/2019.

Filed Date: 1/3/20.

Accession Number: 20200103-5003.

Comments Due: 5 p.m. ET 1/24/20.

Docket Numbers: ER20-731-000.

Applicants: Deseret Generation & Transmission Co-operative, Inc.

Description: Tariff Cancellation: RS 25 Termination of Concurrence to be effective 12/31/2019.

Filed Date: 1/2/20.

Accession Number: 20200102-5278.

Comments Due: 5 p.m. ET 1/23/20.

Docket Numbers: ER20-732-000.

Applicants: California Independent System Operator Corporation.

Description: § 205(d) Rate Filing: 2020-01-02 Deliverability Assessment Methodology Enhancements Amendment to be effective 3/3/2020.

Filed Date: 1/2/20.

Accession Number: 20200102-5288.

Comments Due: 5 p.m. ET 1/23/20.

Docket Numbers: ER20-733-000.

Applicants: PJM Interconnection, L.L.C.

Description: § 205(d) Rate Filing: Amendment to WMPA, SA No. 5374; Queue Position AE1-027 (amend) to be effective 3/29/2019.

Filed Date: 1/2/20.

Accession Number: 20200102-5265.

Comments Due: 5 p.m. ET 1/23/20.

Docket Numbers: ER20-734-000.

Applicants: Alabama Power Company.

Description: § 205(d) Rate Filing: County Line Solar LGIA Filing to be effective 12/19/2019.

Filed Date: 1/3/20.

Accession Number: 20200103-5075.

Comments Due: 5 p.m. ET 1/24/20.

Docket Numbers: ER20-735-000.

Applicants: Alabama Power Company.

Description: § 205(d) Rate Filing: Decatur Solar Energy Center LGIA Filing to be effective 12/19/2019.

Filed Date: 1/3/20.

Accession Number: 20200103-5078.

Comments Due: 5 p.m. ET 1/24/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2020.
Nathaniel J. Davis, Sr.,
Deputy Secretary.

[FR Doc. 2020-00240 Filed 1-9-20; 8:45 am]

BILLING CODE 6717-01-P